INTERNATIONAL TRADE COMMISSION

[Investigation No. 337-TA-1330]

Certain Audio Players and Components Thereof (II); Notice of a Commission Determination Not To Review an Initial Determination Amending Complaint and Notice of Investigation

AGENCY: U.S. International Trade Commission.

ACTION: Notice.

SUMMARY: Notice is hereby given that the U.S. International Trade Commission (“Commission”) has determined not to review an initial determination (“ID”) (Order No. 11) of the presiding administrative law judge (“ALJ”), granting in part Google's motion to amend the complaint and notice of investigation to add to the investigation claim 19 of U.S. Patent No. 11,024,311 (“the '311 patent”), claims 4, 9, and 14 of U.S. Patent No. 9,812,128 (“the '128 patent”), and claims 10, 12, and 18 of U.S. Patent No. 11,050,615 (“the '615 patent”).

FOR FURTHER INFORMATION CONTACT: Ronald A. Traud, Esq., Office of the General Counsel, U.S. International Trade Commission, 500 E Street SW, Washington, DC 20436, telephone (202) 205-3427. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on September 15, 2022, based on a complaint filed on behalf of Google LLC of Mountain View, California. 87 FR 56701 (Sept. 15, 2022). The complaint alleged a violation of section 337 of the Tariff Act of 1930, as amended, 19 U.S.C. 1337, based upon the importation into the United States, the sale for importation, and the sale within the United States after importation of certain audio players and components thereof by reason of the infringement of certain claims of the '311, '128, and '615 patents and U.S. Patent No. 9,632,748. Id. The complaint further alleged that an industry in the United States exists as required by section 337. Id. The Commission's notice of investigation named as the respondent Sonos, Inc. of Santa Barbara, California. Id. The Office of Unfair Import Investigations was not named as a party in this investigation. Id.

On December 15, 2022, Google file a motion seeking leave to amend the complaint and notice of investigation to allege infringement of additional patent claims. In particular, Google sought to add to the investigation claim 19 of the '311 patent, claims 4, 9, and 14 of the '128 patent, and claims 10, 12, 18, and 20 of the '615 patent.

On January 4, 2023, the ALJ issued Order No. 11, which includes the subject ID and which granted the motion in part. The ID granted Google's motion with respect to claim 19 of the '311 patent, claims 4, 9, and 14 of the '128 patent, and claims 10, 12, and 18 of the '615 patent. In a portion of Order No. 11 that does not include the ID, the ALJ denied Google's motion as to claim 20 of the '615 patent. No petitions for review of the ID were filed.

The Commission has determined not to review the subject ID.

The complaint and notice of investigation are hereby amended to add the following claims to the investigation: claim 19 of the '311 patent, claims 4, 9, and 14 of the '128 patent, and claims 10, 12, and 18 of the '615 patent.

The Commission vote for this determination took place on February 3, 2023.

The authority for the Commission's determination is contained in section 337 of the Tariff Act of 1930, as amended (19 U.S.C. 1337), and in part 210 of the Commission's Rules of Practice and Procedure (19 CFR part 210).

By order of the Commission.
Issued: February 3, 2023.
Katherine Hiner,
Acting Secretary to the Commission.

[FR Doc. 2023-02676 Filed 2-7-23; 8:45 am]

BILLING CODE 7020-02-P